DEPARTMENT OF EDUCATION

Privacy Act of 1974; Computer Matching Program

AGENCY: Department of Education.

ACTION: Notice—computer matching between the U.S. Department of Education and the Social Security Administration.

SUMMARY: Pursuant to the Computer Matching and Privacy Protection Act of 1988, Public Law 100-503, and the Office of Management and Budget (OMB) Guidelines on the Conduct of Matching Programs, notice is hereby given of the renewal of the computer matching program between the U.S. Department of Education (ED)(recipient agency), and the Social Security Administration (SSA) (the source agency). This renewal of the computer matching program between SSA and ED will become effective as explained below.

In accordance with the Privacy Act of 1974 (5 U.S.C. 552a), as amended by the Computer Matching and Privacy Protection Act of 1988 (Pub. L. 100-503), the OMB Final Guidelines on the Conduct of Matching Programs (see 54 FR 25818, June 19, 1989), and OMB Circular A-130, we provide the following information:

1. Names of Participating Agencies

The U.S. Department of Education and the Social Security Administration.

2. Purpose of the Match

The purpose of this matching program between ED and SSA is to assist the Secretary of Education in his obligation to verify immigration status and social security numbers (SSN) under 20 U.S.C. 1091(g) and (p). The SSA will verify the issuance of an SSN to, and the citizenship status of, those students and parents who provide their SSNs in the course of applying for aid under a student financial assistance program authorized under Title IV of the Higher Education Act of 1965, as amended (HEA). Verification of this information by SSA will help ED satisfy its obligation to ensure that individuals applying for financial assistance meet eligibility requirements imposed by the HEA.

Verification by this computer matching program effectuates the purpose of the HEA, because it provides an efficient and comprehensive method of verifying the accuracy of each individual's SSN and claim to a citizenship status that permits that individual to qualify for Title IV, HEA assistance.

3. Legal Authority for Conducting the Matching Program

ED is authorized to participate in the matching program under sections 484(p)(20 U.S.C. 1091(p)); 484(g)(20 U.S.C. 1091(g)); 483(a)(7)(20 U.S.C. 1090(a)(7)); and 428B(f)(2)(20 U.S.C. 1078-2(f)(2)) of the HEA.

The SSA is authorized to participate in the matching program under section 1106(a) of the Social Security Act, (42 U.S.C. 1306(a)), and the regulations promulgated pursuant to that section (20 CFR part 401).

4. Categories of Records and Individuals Covered by the Match

The Federal Student Aid Application File (18-11-01), which contains the applicant information on authority from ED and the ED PIN Registration System of Records (18-11-12), which contains the applicant's information to receive an ED PIN, will be matched against SSA's Master Files of Social Security Numbers Holders and SSN Applications System, SSA/OEEAS, 60-0058, which maintains records about each individual who has applied for and obtained an SSN.

5. Privacy Impact Assessment

Section 208 of the E-Government Act of 2002 (44 U.S.C. 3501 note) requires ED to conduct the following privacy impact assessment of this information collection:

The information collected by ED under this computer matching agreement is the verification of SSNs and citizenship by SSA, for the purpose of assisting ED to satisfy its obligation to ensure that an individual applying for financial assistance meets the requirements imposed under the HEA. This verification is mandated by the HEA. The information obtained from SSA by ED will only be used as provided for under Section X of the agreement. Notice that ED verifies an individual's SSN through a computer matching agreement with agencies such as SSA is provided to individuals in the Privacy and Security section of the Free Application for Federal Student Aid (FAFSA), and in Federal student loan program forms; submission of a FAFSA and participation in the Federal student loan programs is voluntary. The information obtained from SSA under this computer matching agreement will be secured pursuant to the procedures described in Section IX of the agreement. No new system of records is being created for this collection because, as noted above, the verification of SSNs is already included as a routine use in the System of Records for Federal student aid programs. Thus, this collection comports with applicable Privacy Act standards and Section 208.

6. Effective Date of the Matching Program

This matching program must be approved by the Data Integrity Board of each agency. This matching agreement will become effective on: (1) October 10, 2003; (2) 40 days after the approved agreement is sent to Congress and OMB (or later if OMB objects to some or all of the agreement); or (3) 30 days after publication of this notice in the Federal Register, whichever date is last.

The matching agreement will continue for 18 months after the effective date and may be extended for an additional 12 months thereafter, if the conditions specified in 5 U.S.C. 552(o)(2)(D) have been met.

7. Address for Receipt of Public Comments or Inquiries

Individuals wishing to comment on this matching program, or to obtain additional information about the program, including a copy of the computer matching agreement between ED and SSA, should contact Ms. Edith Bell, Management and Program Analyst, Union Center Plaza, 830 First Street, NE., Washington, DC 20002-5454. Telephone: (202) 377-3231. If you use a telecommunications device for the deaf (TDD), you may call the Federal Information Relay Service (FIRS) at 1-800-877-8339.

Individuals with disabilities may obtain this document in an alternative format (e.g., Braille, large print, audiotape or computer diskette) on request to the contact person listed in the preceding paragraph.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Dated: August 26, 2003.
Theresa S. Shaw,
Chief Operating Officer, Federal Student Aid.

[FR Doc. 03-22179 Filed 8-28-03; 8:45 am]

BILLING CODE 4000-01-P